DEPARTMENT OF THE INTERIOR

Bureau of Indian Affairs

Submission of Information Collection for Probate to the Office of Management and Budget

AGENCY: Bureau of Indian Affairs, Interior.

ACTION: Notice of Submission to Office of Management and Budget for renewal.

SUMMARY: As required by the Paperwork Reduction Act of 1995, we are submitting to the Office of Management and Budget the information collection found in the general Probate of Indian Decedents' Estates, Except for Members of the Five Civilized Tribes regulations. The purpose of this data collection is to ensure that Probate regulations are administered for the benefit of individual Indians and any persons having claims against an Indian decedent's estate.

DATES: Submit comments or suggestions on or before April 5, 2004 to be assured of consideration.

ADDRESSES: You may submit comments to the Desk Officer for the Department of the Interior by e-mail to OIRA_DOCKET@omb.eop.gov or by facsimile to (202) 395-6566.

Send a copy of the comments to Ben Burshia, Bureau of Indian Affairs, Office of the Deputy Bureau Director—Trust Services, Division of Real Estate Services, MS 4512-MIB, 1849 C Street NW., Washington, DC 20240. Comments may also be telefaxed to (202) 219-1255. We cannot accept E-mail comments at this time.

FOR FURTHER INFORMATION CONTACT: Angela D. Pittman, (202) 208-4861.

SUPPLEMENTARY INFORMATION: The information provided through collection requirements is used by the Department of the Interior, BIA, to determine heirs and divide any funds held by the BIA for an Indian decedent and to divide the decedent's trust and restricted real property. The information is particularly used by the Bureau of Indian Affairs in:

(a) Instructing an individual in starting the probate process;

(b) Preparing a probate package for review;

(c) Filing claims;

(d) Disbursing assets; and

(e) Filing appeals for adverse decisions.

Request for Comments

A notice requesting comments was published in the Federal Register on July 22, 2003 (68 FR 43365). No comments were received. The Bureau of Indian Affairs now requests your comments on this collection be sent to the Desk Officer for the Department of the Interior at the Office of Management and Budget. Please address the following:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as facilitating use of automation for collection techniques or other forms of information technology.

Please note that an agency may not sponsor or request, and an individual need not respond to, a collection of information unless it has a valid OMB Control Number.

It is our policy to make all comments available to the public for review at the location listed in the ADDRESSES section, Room 4522, during the hours of 8:30 a.m. to 5 p.m. EST, Monday through Friday except for legal holidays. If you wish to have your name and/or address withheld, you must state this prominently at the beginning of your comments. We will honor your request according to the requirements of the law. All comments from organizations or representatives will be available for review. We may withhold comments from review for other reasons.

OMB has up to 60 days to make a decision on the submission for renewal, but may make the decision after 30 days. Therefore, to receive the best consideration of your comments, you should submit them closer to 30 days than 60 days.

Information Collection Abstract

OMB Control Number: 1076-0156.

Type of Review: Renewal.

Title: 25 CFR 15, Probate of Indian Estates, Except for Members of the Five Civilized Tribes.

Brief Description of Collection: Information is collected through the probate process when BIA learns of decedent's death from a neighbor, friend, family, or any other interested person by providing a copy of decedent's obituary notice from a local newspaper; or an affidavit of death prepared by someone who knows about the decedent's death. BIA also requires other documents to process the probate package. An interested party must inform BIA if any of the documents or information identified are not available.

Respondents: Possible respondents include: individual tribal members, individual non-Indians, individual tribal member-owned businesses, non-Indian owned businesses, tribal governments, and land owners who are seeking a benefit.

Number of Respondents: 32,589 annually.

Annual hours: 156,407.

Estimated Time per Response: 5 hours.

Frequency of Response: As required.

Dated: February 27, 2004.
Dave Anderson,
Assistant Secretary—Indian Affairs.

[FR Doc. 04-4851 Filed 3-3-04; 8:45 am]

BILLING CODE 4310-W7-P